FEDERAL COMMUNICATIONS COMMISSION

47 CFR Part 54

[WC Docket No. 21-93; FCC 21-58; FR ID 38122]

Establishing Emergency Connectivity Fund To Close the Homework Gap; Corrections

AGENCY: Federal Communications Commission.

ACTION: Correcting amendments.

SUMMARY: On May 11, 2021, the Federal Communications Commission (Commission) released a Report and Order in the matter of “Establishing Emergency Connectivity Fund to Close the Homework Gap.” This document contains corrections to the final regulations that appeared in the Federal Register of May 28, 2021.

DATES: Effective July 22, 2021.

FOR FURTHER INFORMATION CONTACT: Johnnay Schrieber, Wireline Competition Bureau, (202) 418-7400 or by email at Johnnay.Schrieber@fcc.gov. The Commission asks that requests for accommodations be made as soon as possible in order to allow the agency to satisfy such requests whenever possible. Send an email to fcc504@fcc.gov or call the Consumer and Governmental Affairs Bureau at (202) 418-0530.

SUPPLEMENTARY INFORMATION: The Commission published a document amending part 54 in the Federal Register of May 28, 2021 (86 FR 29136). This document corrects § 54.1710(a)(1)(v), (x), and (xi) of the rules.

Need for the correction. As published, the final regulations contain an error, which requires immediate correction.

List of Subjects in 47 CFR Part 54

Communications common carriers, Internet, Libraries, Reporting and recordkeeping requirements, Schools, Telecommunications.

Federal Communications Commission.
Marlene Dortch,
Secretary.

Final Rules

Accordingly, 47 CFR part 54 is corrected by making the following correcting amendments:

PART 54—UNIVERSAL SERVICE

1. The authority for part 54 continues to read as follows:

Authority: 47 U.S.C. 151, 154(i), 155, 201, 205, 214, 219, 220, 229, 254, 303(r), 403, 1004, 1302, and 1601-1609, unless otherwise noted.

2. Amend § 54.1710 by revising paragraphs (a)(1)(v), (x), and (xi) to read as follows:

§ 54.1710 Emergency Connectivity Fund requests for funding.

(a) * * *

(1) * * *

(v) The library or library consortia eligible is for assistance from a State library administrative agency under the Library Services and Technology Act, does not operate as for-profit businesses, and their budgets are completely separate from any school (including, but not limited to, elementary and secondary schools, colleges, and universities).

* * * * *

(x) The applicant or the relevant student, school staff member, or library patron has received, or the applicant has ordered the equipment and services for which funding is sought.

(xi) The equipment and services the school, library, or consortium purchases or will purchase using Emergency Connectivity Fund support will be used primarily for educational purposes and will not be sold, resold, or transferred in consideration for money or any other thing of value, except as allowed by § 54.1713.

* * * * *

[FR Doc. 2021-15494 Filed 7-21-21; 8:45 am]

BILLING CODE 6712-01-P